DEPARTMENT OF JUSTICE

Antitrust Division

Notice Pursuant to the National Cooperative Research and Production Act of 1993—Maritime Sustainment Technology and Innovation Consortium

Notice is hereby given that, on January 5, 2023, pursuant to Section 6(a) of the National Cooperative Research and Production Act of 1993, 15 U.S.C. 4301 et seq. (“the Act”), Maritime Sustainment Technology and Innovation Consortium (“MSTIC”) has filed written notifications simultaneously with the Attorney General and the Federal Trade Commission disclosing changes in its membership. The notifications were filed for the purpose of extending the Act's provisions limiting the recovery of antitrust plaintiffs to actual damages under specified circumstances. Specifically, Acutronic USA, Inc., Pittsburgh, PA; Corvid Technologies, Moorsesville, NC; Sauer Compressors USA, Stevensville, MD; Swain Online Inc. dba Swain Techs, Newtown, PA; DKW Consulting LLC, Tallahassee, FL; Phelps2020, Inc., Knoxville, TN; SoftInWay, Inc., Burlington, MA; Jo-Kell, Inc., Chesapeake, VA; Custom Magnetics of California Inc., Chino, CA; Espey Mfg. & Electronics Corp., Saratoga Springs, NY; Luna Labs USA, Inc., Charlottesville, VA; NWL, Inc., Bordentown, NJ; Vetted Tech Inc., Syracuse, NY; Weather Gage Technologies, LLC, Annapolis, MD; TrustedQA, Inc., Reston, VA; DL Martin, Mercersburg, PA; Ohio Semitronics, Hilliard, OH; Federal Equipment Company, Cincinnati, OH; Comark LLC, Milford, MA; 901D, Airmont, NY; Fox Valley Metal-Tech, Inc., Green Bay, WI; Chitra Productions, LLC, Virginia Beach, VA; Baker Street Scientific, Inc., Rome, GA; Ohio State University, Columbus, OH; Rebellion Defense, Inc., Washington, DC; Fathom5 Corporation, Austin, TX; McNally Industries, LLC, Grantsburg, WI; IntelliSys Solutions Group, Philadelphia, PA; Virginia Tech Applied Research Corporation, Arlington, VA; Torotel Products, Inc., Olathe, KS; Munro & Associates, Inc., Auburn Hills, MI; Data Networks, Inc., Reston, VA; Qualtech Systems Inc., Rocky Hill, CT; Maplewell, Inc., Broomfield, CO; Project and Construction Welding, Inc. dba IMS, Inc., Cape Coral, FL; Machina Labs, Inc., Chatsworth, CA; and GE Power Conversion USA, Inc., Imperial, PA, have been added as parties to this venture.

No other changes have been made in either the membership or planned activity of the group research project. Membership in this group research project remains open, and MSTIC intends to file additional written notifications disclosing all changes in membership.

On October 21, 2020, MSTIC filed its original notification pursuant to Section 6(a) of the Act. The Department of Justice published a notice in the Federal Register pursuant to Section 6(b) of the Act on November 19, 2020 (85 FR 73750).

The last notification was filed with the Department on October 5, 2022. A notice was published in the Federal Register pursuant to Section 6(b) of the Act on November 8, 2022 (87 FR 67492).

Suzanne Morris,
Deputy Director of Civil Enforcement Operations, Antitrust Division.

[FR Doc. 2023-01390 Filed 1-24-23; 8:45 am]

BILLING CODE P